DEPARTMENT OF COMMERCE

National Oceanic and Atmospheric Administration

50 CFR Part 660

[Docket No. 230508-0124; RTID 0648-XD179]

Fisheries Off West Coast States; Modification of the West Coast Salmon Fisheries; Inseason Action #17

AGENCY: National Marine Fisheries Service (NMFS), National Oceanic and Atmospheric Administration (NOAA), Commerce.

ACTION: Inseason modification of 2023 management measures.

SUMMARY: NMFS announces one inseason action for the 2023-2024 ocean salmon fishing season. This inseason action modifies the July-September sub-quota for the treaty Indian salmon fisheries in the area from the U.S./Canada border to Cape Falcon, Oregon.

DATES: The effective date for this inseason action is set out in this document under the heading “Inseason Action” and the actions remain in effect until superseded or modified.

FOR FURTHER INFORMATION CONTACT: Shannon Penna, 562-980-4239, Shannon.Penna@noaa.gov.

SUPPLEMENTARY INFORMATION:

Background

The annual management measures for the 2023 and early 2024 ocean salmon fisheries (88 FR 30235, May 11, 2023) govern the commercial and recreational fisheries in the area from the U.S./Canada border to the U.S./Mexico border, effective from 0001 hours Pacific Daylight Time (PDT), May 16, 2023, until the effective date of the 2024 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council), and the appropriate State Directors (50 CFR 660.409(b)—Flexible inseason management provisions).

Management of the salmon fisheries is divided into two geographic areas: north of Cape Falcon (NOF) (U.S./Canada border to Cape Falcon, OR), and south of Cape Falcon (SOF) (Cape Falcon, OR, to the U.S./Mexico border). The action described in this document affects the NOF treaty tribal salmon fisheries, as set out under the heading “Inseason Action” below.

Inseason Action

Inseason Action #17

Description of the action: Inseason action #17 modifies the July-September subquota for the treaty Indian salmon fishery north of Cape Falcon that was set preseason at 22,500 Chinook salmon, to 38,265 Chinook salmon through an impact-neutral rollover of unused May-June subquota.

Effective dates: Inseason action #17 took effect on July 1, 2023, and remains in effect until the end of the 2023 treaty Indian salmon season on September 15, 2023.

Reason and authorization for the action: The tribal fisheries reported a remaining catch of 15,765 Chinook salmon in the May-June fishery subquota of 20,000. The Salmon Technical Team determined the overage can be rolled over to the July-September fishery on an impact-neutral basis with a new Chinook salmon subquota of 38,265. The treaty tribes notified staff from NMFS, Council, and the Washington Department of Fish and Wildlife of the need for modification of the July-September quota. The NMFS West Coast Regional Administrator (RA) concurred with the quota modification. This inseason action modifies quotas and/or fishing seasons under 50 CFR 660.409(b)(1)(i).

All other restrictions and regulations remain in effect as announced for the 2023 ocean salmon fisheries (88 FR 30235, May 11, 2023; 88 FR 44737, July 13, 2023; 88 FR 51250, August 3, 2023) except as previously modified by inseason actions.

The RA determined that this inseason action was warranted based on the best available information on Pacific salmon abundance forecasts, landings and effort patterns to date, anticipated fishery effort and projected catch, and the other factors and considerations set forth in 50 CFR 660.409. The states and tribes manage the fisheries in state waters adjacent to the areas of the U.S. exclusive economic zone (3-200 nautical miles; 5.6-370.4 kilometers) off the coasts of the States of Washington, Oregon, and California consistent with these Federal actions. As provided by the inseason notice procedures at 50 CFR 660.411, actual notice of the described regulatory actions was given, prior to the time the actions became effective, by telephone hotline numbers 206-526-6667 and 800-662-9825.

Classification

NMFS issued this action pursuant to section 305(d) of the Magnuson-Stevens Fishery Conservation and Management Act (MSA). This action is authorized by 50 CFR 660.409, which was issued pursuant to section 304(b) of the MSA, and is exempt from review under Executive Order 12866.

Pursuant to 5 U.S.C. 553(b)(3)(B), there is good cause to waive prior notice and an opportunity for public comment on this action, as notice and comment would be impracticable and contrary to the public interest. Prior notice and opportunity for public comment on this action was impracticable because NMFS had insufficient time to provide for prior notice and the opportunity for public comment between the time Chinook and coho salmon abundance, catch, and effort information were developed and fisheries impacts were calculated, and the time the fishery modifications had to be implemented in order to ensure that fisheries are managed based on the best scientific information available. As previously noted, actual notice of the regulatory action was provided to fishers through telephone hotlines and radio notifications. These actions comply with the requirements of the annual management measures for ocean salmon fisheries (88 FR 30235, May 11, 2023), the Pacific Salmon Fishery Management Plan (FMP), and regulations implementing the FMP under 50 CFR 660.409 and 660.411.

There is good cause under 5 U.S.C. 553(d)(3) to waive the 30-day delay in effective date, as a delay in effectiveness of this action would allow fishing at levels inconsistent with the goals of the FMP and the current management measures.

Authority: 16 U.S.C. 1801 et seq.

Dated: August 4, 2023.
Jennifer M. Wallace,
Acting Director, Office of Sustainable Fisheries, National Marine Fisheries Service.

[FR Doc. 2023-17051 Filed 8-4-23; 4:15 pm]

BILLING CODE 3510-22-P